DEPARTMENT OF JUSTICE

Notice of Lodging of Proposed Consent Decree Under the Comprehensive Environmental Response, Compensation and Liability Act

On August 17, 2015, the Department of Justice lodged a proposed Consent Decree with the United States District Court for the District of Maryland in the lawsuit entitled United States and State of Maryland v. Arkema Inc., et al., Civil Action No.1:15-cv-02426.

Under the proposed Consent Decree, Defendants Arkema Inc.; Bayer Cropscience, LP; FMC Corporation; Honeywell International, Inc; Lebanon Seaboard Corporation; Montrose Chemical Corporation of California; Occidental Chemical Corporation; Olin Corpration; Rhone-Poulenc; Rohm and Haas Company; Shell Oil Company; Syngenta Crop Protection, LLC; The Chemours Company FC, LLC; Union Carbide Corporation; Wilmington Securities, Inc.; and 21st Century Fox America, Inc., will: (1) Pay past response costs of $945,117.64 to the United States, (2) agree to pay future response costs to the United States, and (3) implement injunctive relief to perform the remedy set forth in the Record of Decision for Operable Unit 1 (“OU-1”) of the Central Chemical Site (“Site”) in Hagerstown Maryland. The proposed Consent Decree resolves the United States' claim for cost recovery under Section 107 of CERCLA, 42 U.S.C. 9607, and the United States' and the State of Maryland's claims for injunctive relief under Section 106 of CERCLA, 42 U.S.C. 9606, and Maryland Environment Code § 7-222, with respect to OU-1 of the Site. The Site is a former agricultural pesticide and fertilizer blending facility; OU-1 of the Site addresses contaminated soils, and principal threat wastes at the Site, including a former waste lagoon.

Under the proposed Consent Decree, the United States and the State of Maryland covenant not to sue or take administrative action against Defendants pursuant to Sections 106 and 107(a) of CERCLA and Section 7003 of RCRA, for past and future costs paid, and injunctive relief performed, pursuant to the proposed Consent Decree.

The publication of this notice opens a period for public comment on the Consent Decree. Comments should be addressed to the Assistant Attorney General, Environment and Natural Resources Division, and should refer to United States United States and State of Maryland v. Arkema Inc., et al., D.J. Ref. No. 90-11-2-1244/1. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

Under section 7003(d) of RCRA, a commenter may request an opportunity for a public meeting in the affected area.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $69.50 (25 cents per page reproduction cost) payable to the United States Treasury. For a paper copy without the exhibits and signature pages, the cost is $25.00.

Robert D. Brook,
Assistant Section Chief, Environmental Enforcement Section, Environment and Natural Resources Division.

[FR Doc. 2015-20580 Filed 8-19-15; 8:45 am]

BILLING CODE 4410-15-P